DEPARTMENT OF AGRICULTURE

Forest Service

RIN 0596-AC39

Travel Management Directives; Forest Service Manual 2350, 7700, and 7710 and Forest Service Handbook 7709.55

Correction

In notice document E8-29041 beginning on page 74689 in the issue of Tuesday, December 9, 2008, make the following correction:

On page 74689, in the first column, in the DATES paragraph, in the second line, “January 7, 2009” should read “January 8, 2009”.

[FR Doc. Z8-29041 Filed 12-15-08; 8:45 am]

BILLING CODE 1505-01-D